SOCIAL SECURITY ADMINISTRATION

20 CFR Part 411

Town Hall Meetings on the Notice of Proposed Rulemaking for the Ticket To Work and Self-Sufficiency Program

AGENCY: Social Security Administration (SSA).

ACTION: Notice of public town hall meetings.

SUMMARY: We intend to hold a series of town hall meetings to maximize the opportunities for individuals and organizations to give us input on our Notice of Proposed Rulemaking (NPRM) to amend our regulations for the Ticket to Work and Self-Sufficiency Program (Ticket to Work program). We invite the public, including beneficiaries and other individuals with disabilities, their advocates, service providers, employers and other interested parties to attend these public meetings and to give us input on our proposed changes to the rules for the Ticket to Work program. We are announcing the scheduling of the first of these town hall meetings and a tentative schedule of additional meetings.

DATES: We will hold our first public town hall meeting in Irvine, California on November 4, 2005 at 9 a.m. and ending at 12 p.m. See SUPPLEMENTARY INFORMATION section for tentative sites and dates for additional town hall meetings.

ADDRESSES: The location for the first town hall meeting is: Hyatt Regency Irvine, 17900 Jamboree Road, Irvine, CA 92614, Telephone: (949) 975-1234, Fax: (949) 852-1574, Web site: http://irvine.hyatt.com.

FOR FURTHER INFORMATION CONTACT: For information about these town hall meetings contact, Paul Kryglik by telephone (410) 965-3735 or TTY (410) 966-5609, or by e-mail to paul.kryglik@ssa.gov. You may also mail inquiries about these meetings to Paul Kryglik, Outreach Coordinator, ODISP, Office of Regulations, Social Security Administration, 107 Altmeyer, 6401 Security Boulevard, Baltimore, MD 21235-6401.

For information on eligibility or filing for benefits, call our national toll-free number 1-800-772-1213 or TTY 1-800-325-0778, or visit our Internet site, Social Security Online, at http://www.socialsecurity.gov.

SUPPLEMENTARY INFORMATION:

Background

On September 30, 2005, we published an NPRM in the Federal Register (70 FR 57222) to amend our current rules for the Ticket to Work program to improve the overall effectiveness of the program in assisting beneficiaries to maximize their economic self-sufficiency through work opportunities. We provided a 90-day period for interested parties to comment. The 90-day comment period ends December 29, 2005. For information on how to give us written comments on the NPRM or read the comments we receive, see ADDRESSES section of the NPRM, or “How do I provide comments if I do not go to a town hall meeting?” section later in this notice. You may also give us comments orally or in writing at any of the town hall meetings, as explained in this notice. You may read the NPRM for the Ticket to Work program Online. The NPRM is available on the Internet site for the Government Printing Office at http://www.gpoaccess.gov/fr/index.html. The NPRM is also available on the Internet site for SSA (i.e., Social Security Online) at http://policy.ssa.gov/pnpublic.nsf/LawsRegs.

What Is the Purpose of the Town Hall Meetings?

As contemplated in the NPRM for the Ticket to Work program, we are conducting a series of town hall meetings open to the public in order to obtain additional input on our proposed changes to the current rules for the program. We are holding these town hall meetings to maximize public awareness of our proposed rules for the Ticket to Work program and to maximize the opportunity for beneficiaries and other individuals with disabilities, their advocates, service providers, employers and other interested parties to provide us input on our proposed changes to the program. We invite you and other interested persons to come to any of the town hall meetings to give us oral and/or written comments on the NPRM for the Ticket to Work program.

What Are the Agenda and Format for the Town Hall Meetings?

The full agenda for the meetings, as soon as available, will be posted on the Internet on the “Work Site” of SSA's Office of Employment Support Programs, at http://www.socialsecurity.gov/work. Seating at the town hall meetings may be limited. In general, the agenda and format for the meetings will be as follows:

There will be a brief introductory opening during which SSA officials and/or other personnel, including a facilitator, will introduce themselves and describe the purpose and format of the meeting, including the ground rules for providing oral and/or written comments at the meeting.

We will ask for public comments on our proposed rules after a presentation of an overview of SSA's Comprehensive Work Opportunity Initiative. This discussion will be followed by a brief overview of the Ticket NPRM followed by an opportunity to offer comment on the following areas: (1) State participation and beneficiary choice; (2) employment network payment systems; (3) ticket eligibility for beneficiaries whose conditions may improve; (4) eligibility for more than one ticket per period of eligibility; (5) the definition of “using a ticket” and timely progress; (6) the evidence requirements for employment network payment; and (7) availability of phase 1 milestone payments in conjunction with vocational rehabilitation reimbursement.

The third and final phase of the meeting will start with an overview of SSA's Demonstration Projects and will be followed by an opportunity to comment on any of the Demonstration Projects or SSA Work Incentives.

For each issue and as time allows, we will give each individual the opportunity to provide oral comments within a specified amount of time (e.g., approximately two minutes). Microphones will be stationed at convenient points in the meeting room. We will ask individuals wanting to provide comments to us to form a line behind each microphone and approach the microphone in turn. We will ask that each speaker, before delivering his or her remarks, identify themselves by full name, address, and telephone number. For those individuals representing organizations, we will request that they identify themselves by full name, state the name of the organization and the capacity in which they represent the organization, and give the organization's address and telephone number. Each individual will then state his/her comments regarding the area/issue open for comment. Each individual's remarks will be recorded and later transcribed and entered into the rulemaking record as written comments.

We anticipate allotting a period of time to receive oral comments on each area/issue, with a short break between each such period. At times announced during the meeting, and at the end of each meeting, we will accept written comments from individuals wishing to give us comments in writing.

What Will SSA Do With the Comments It Receives on the NPRM?

The transcript of the oral comments on the NPRM given to us at the town hall meetings and any written comments we receive at the meetings, together with the written comments that we receive in the manner prescribed in the NPRM during the 90-day comment period, will become a part of the rulemaking record for making changes to the regulations for the Ticket to Work program. The 90-day comment period ends on December 29, 2005. We will consider all of these comments in developing the final rules for the Ticket to Work program. We will summarize the public comments we received on the NPRM and respond to the major comments in the preamble to our final regulations.

We will post the written comments we receive during the 90-day comment period, including the transcript of the oral comments presented at the town hall meetings, on our Internet site at http://policy.ssa.gov/pnpublic.nsf/LawsRegs. You may also make arrangements to inspect the comments as explained in the “How do I provide comments on the NPRM if I do not go to a town hall meeting?” section of this notice.

What Are the Tentative Sites and Dates for Other Town Hall Meetings?

The tentative sites and approximate dates for additional town hall meetings are as follows:

Miami, Florida: November 16, 2005 from 9 a.m.-12 p.m.

Hartford, Connecticut: December 6, 2005 from 9 a.m.-12 p.m.

Des Moines, Iowa: December 14, 2005 from 9 a.m.-12 p.m.

When we have more information about these additional town hall meetings, we will publish that information in a notice(s) in the Federal Register at a time nearer to the event(s). Seating may be limited at these meetings.

How Do I Provide Comments on the NPRM if I Do Not Go to a Town Hall Meeting?

You may give us your written comments by: using our Internet site facility (i.e., Social Security Online) at http://policy.ssa.gov/pnpublic.nsf/LawsRegs or the Federal eRulemaking Portal at http://www.regulations.gov; e-mail to regulations@ssa.gov; telefax to (410) 966-2830; or letter to the Commissioner of Social Security, P.O. Box 17703, Baltimore, MD 21235-7703. You may also deliver them to the Office of Regulations, Social Security Administration, 107 Altmeyer Building, 6401 Security Boulevard, Baltimore, MD 21235-6401, between the hours of 8 a.m. and 4:30 p.m. on regular business days. To be sure your comments are considered, we must receive them by December 29, 2005.

We post the comments on our Internet site at http://policy.ssa.gov/pnpublic.nsf/LawsRegs. You may also inspect the comments on regular business days by making arrangements with the following contact person: Greg Zwitch, SSA Regulations Officer, Social Security Administration, 107 Altmeyer Building, 6401 Security Boulevard, Baltimore, MD 21235-6401, e-mail regulations@ssa.gov, or telephone (410) 965-1887 or TTY (410) 966-5609.

Authority: Sec. 1148 of the Social Security Act (42 U.S.C. 1320b-19); sec. 101(e), Pub. L. 106-170, 113 Stat. 1860, 1877 (42 U.S.C. 1320b-19 note).

Dated: October 14, 2005.
Martin H. Gerry,
Deputy Commissioner for Disability and Income Security Programs.

[FR Doc. 05-20972 Filed 10-18-05; 8:45 am]

BILLING CODE 4191-02-U